DEPARTMENT OF EDUCATION

Applications for New Awards; Talent Search Program; Correction

Catalog of Federal Domestic Assistance (CFDA) Number: 84.044A

AGENCY: Office of Postsecondary Education, Department of Education.

ACTION: Notice; correction.

SUMMARY: This notice corrects the “Estimated Available Funds” and “Maximum Award Amounts” in the notice inviting applications for new awards for fiscal year (FY) 2016 for the Talent Search program, published on December 22, 2015.

DATES: Effective January 21, 2016.

FOR FURTHER INFORMATION CONTACT: Craig Pooler, OPE, U.S. Department of Education, 400 Maryland Avenue SW., Room 7E311, Washington, DC 20202. Telephone: (202) 502-7640 or by email: Craig.Pooler@ed.gov. If you use a telecommunications device for the deaf or a text telephone, call the Federal Relay Service, toll free, at 1-800-877-8339.

SUPPLEMENTARY INFORMATION:

Corrections

In the Federal Register of December 22, 2015 (80 FR 79574), on page 79576, in the third column, section II. Award Information, under “Estimated Available Funds,” we correct the estimated amount to $150,000,000. In addition, we correct the “Maximum Award,” which is located a couple paragraphs below the “Estimated Available Funds,” to read:

Maximum Award:

• For an applicant that is not currently receiving a Talent Search Program grant, the maximum award amount is $240,000 for a project that will serve a minimum of 500 participants, based upon a per-participant cost of no more than $480.

• For an applicant that is currently receiving a Talent Search Program grant, the maximum award amount is the greater of (a) $240,000 or (b) the award amount obtained by multiplying the applicant's approved FY 2015 number of participants by $480, to serve at least the number of participants approved to serve in FY 2015. The minimum number of participants an applicant proposes to serve must be 500 and the project must propose a per-participant cost that does not exceed $480 per participant. For example, an applicant whose FY 2015 approved number of participants is 600 is eligible for a grant of up to $288,000 to serve 600 participants.

We will reject any application that proposes a budget exceeding the maximum amount listed above for a single budget period of 12 months. We will also reject any application that proposes a budget to serve fewer than 500 participants, and will reject any application that proposes a budget that exceeds the maximum per participant cost of $480.

All other information in the December 22, 2015, notice remains unchanged.

Program Authority: 20 U.S.C. 1070a-11 and 1070a-12.

Accessible Format: Individuals with disabilities can obtain a copy of the application package in an accessible format (e.g., braille, large print, audiotape, or compact disc) by contacting the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF, you must have Adobe Acrobat Reader, which is available free at the site.

You may also access documents of the Department published in the Federal Register by using the article search feature at: www.federalregister.gov. Specifically, through the advanced search feature at this site, you can limit your search to documents published by the Department.

Dated: January 14, 2016.
Lynn B. Mahaffie,
Deputy Assistant Secretary for Policy, Planning and Innovation Delegated the Duties of the Assistant Secretary for Postsecondary Education.

[FR Doc. 2016-01158 Filed 1-20-16; 8:45 am]

BILLING CODE 4000-01-P